FEDERAL ELECTION COMMISSION

Sunshine Act Notice

AGENCY: Federal Election Commission

Federal Register CITATION OF PREVIOUS ANNOUNCEMENT—76 FR 77229 (December 12, 2011)

DATE AND TIME: Thursday, December 15, 2011 at 10 a.m.

PLACE: 999 E Street NW., Washington, DC (ninth floor).

STATUS: This meeting will be open to the public.

CHANGES IN THE MEETING—The following items have been added to the agenda:

Draft Notice of Proposed Rulemaking—Independent Expenditure Reporting by Persons other than Political Committees

Draft Notice of Proposed Rulemaking—Independent Expenditures and Electioneering Communications by Corporations and Labor Organizations

Individuals who plan to attend and require special assistance, such as sign language interpretation or other reasonable accommodations, should contact Shawn Woodhead Werth, Secretary and Clerk, at (202) 694-1040, at least 72 hours prior to the hearing date.

PERSON TO CONTACT FOR INFORMATION: Judith Ingram, Press Officer, Telephone: (202) 694-1220.

Shawn Woodhead Werth,
Secretary of the Commission.

[FR Doc. 2011-32470 Filed 12-14-11; 4:15 pm]

BILLING CODE 6715-01-P